DEPARTMENT OF TRANSPORTATION

Federal Motor Carrier Safety Administration

[Docket No. FMCSA-2015-0261

Hours of Service of Drivers: CRST Expedited Inc., Application for Exemption

AGENCY: Federal Motor Carrier Safety Administration (FMCSA), DOT.

ACTION: Notice of application for exemption; request for comments.

SUMMARY: FMCSA announces that it has received an application from CRST Expedited, Inc. (CRST) for an exemption from certain provisions of the Agency's hours-of-service (HOS) regulations. CRST proposes that its team drivers be granted an exemption from the HOS rules pertaining to use of a sleeper berth (SB). Current HOS rules require that all SB rest regimens include, in part, the regular use of a SB period for at least 8 hours—combined with a separate period of at least 2 hours, either in the SB, off-duty or some combination of both—to gain the equivalent of at least 10 consecutive hours off duty. CRST proposes that its team drivers be allowed to take the equivalent of 10 consecutive hours off duty by splitting SB time into two periods totaling 10 hours, provided neither of the two periods is less than 3 hours. FMCSA requests public comment on CRST's application for exemption.

DATES: Comments must be received on or before September 21, 2015.

ADDRESSES: You may submit comments identified by Federal Docket Management System Number FMCSA-2015-0261 by any of the following methods:

• Federal eRulemaking Portal: www.regulations.gov. Follow the online instructions for submitting comments.

• Fax: 1-202-493-2251.

• Mail: Docket Management Facility, U.S. Department of Transportation, 1200 New Jersey Avenue SE., West Building, Ground Floor, Room W12-140, Washington, DC 20590-0001.

• Hand Delivery or Courier: West Building, Ground Floor, Room W12-140, 1200 New Jersey Avenue SE., between 9 a.m. and 5 p.m., Monday through Friday, except Federal holidays.

Instructions: All submissions must include the Agency name and docket number. For detailed instructions on submitting comments and additional information on the exemption process, see the Public Participation heading below. Note that all comments received will be posted without change to www.regulations.gov, including any personal information provided. Please see the Privacy Act heading below.

Docket: For access to the docket to read background documents or comments received, go to www.regulations.gov, and follow the online instructions for accessing the dockets, or go to the street address listed above.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online.

FOR FURTHER INFORMATION CONTACT: Ms. Pearlie Robinson, FMCSA Driver and Carrier Operations Division; Office of Carrier, Driver and Vehicle Safety Standards; Telephone: 202-366-4325. Email: MCPSD@dot.gov. If you have questions on viewing or submitting material to the docket, contact Docket Services, telephone (202) 366-9826.

SUPPLEMENTARY INFORMATION:

Background

FMCSA has authority under 49 U.S.C. 31136(e) and 31315 to grant exemptions from certain parts of the Federal Motor Carrier Safety Regulations. FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted, and determines whether granting the exemption would likely achieve a level of safety equivalent to, or greater than, the level that would be achieved by the current regulation (49 CFR 381.305). The decision of the Agency must be published in the Federal Register (49 CFR 381.315(b)) with the reasons for denying or granting the application and, if granted, the name of the person or class of persons receiving the exemption, and the regulatory provision from which the exemption is granted. The notice must also specify the effective period and explain the terms and conditions of the exemption. The exemption may be renewed (49 CFR 381.300(b)).

Request for Exemption

CRST states that it operates one of industry's largest fleet of team drivers with 4,000 drivers and 1,931 vehicles. CRST delivers products to 48 states from a wide variety of customer locations. The company operates 24 hours a day, seven days a week. Drivers are on duty an average of 48-52 hours per week. Drivers average between 42 and 44 hours of driving time. Work normally consists of picking up loaded trailers at a customer location, driving to the destination and delivering the loaded trailer.

According to CRST, the average driver team typically travels approximately 3,500 miles per week. CRST estimates that 75% of drivers obtain at least 34 consecutive hours off-duty while on the road each week. CRST operates on two- to three-week work cycles. Drivers report for work and are on the road typically 2 to 3 weeks and then return home for 4 to 5 days.

CRST's tractors are equipped with double-bunk sleepers in the event both drivers need or want to rest at the same time. Drivers are allowed to make their own decisions about when and where to take short rest breaks based on their personal needs and preferences in conformance with regulatory requirements. CRST asserts that it takes safety, health and wellness seriously, and hires well-qualified drivers who go through a comprehensive orientation/new-hire training program. CRST's trucks are equipped with electronic on-board recorders (EOBRs) that include electronic logs.

CRST requests an exemption from the current regulations for its delivery shipment operations to eliminate the requirement that SB time include a period of at least 8 but less than 10 consecutive hours in the SB and a separate period of at least 2 but less than 10 consecutive hours either in the SB or off duty, or any combination thereof (49 CFR 395.1(g)(1)(ii)(A)(1)). CRST proposes that its team drivers be allowed to split SB time into two periods totaling at least 10 hours, provided neither of the two periods is less than 3 hours in length. The request would be limited to drivers in team operations. CRST operates on an average day, 1,500 trucks and 3,000 drivers in team operations—two drivers taking turns operating the same truck. If granted the exemption would apply to this number of trucks and drivers.

CRST states that many of their team drivers are newcomers to the trucking industry. Drivers have told CRST that driving an entire 10-11 hour driving shift is too long and that they want the opportunity to switch with a partner more frequently. According to CRST, having the flexibility to switch with a partner allows each driver to take advantage of shorter time periods when they may feel fatigued. Further, splitting the SB time for both team drivers would allow each driver to obtain sleep during critical nighttime hours, which would provide more restorative sleep.

CRST states that it is committed to maintaining its safety record by focusing on continuous improvement, promoting technologies to enhance safety, and having well-communicated policies in place to address both safety and compliance-related topics. CRST identified some countermeasures it would take to maintain safe operations if the exemption is granted. The safeguards would include, but not be limited to:

• Drive time would be reduced from 11 hours to 10 hours. Team drivers would be limited to 10 hours of driving prior to completing their required 10 hours total SB.

• Drivers use EOBRs to track their duty time and HOS compliance;

• All tractors are equipped with speed limiters; Company-owned trucks are governed at 65 MPH; and

• Trucks brought into service in 2015 are equipped with collision-avoidance technology.

CRST believes that by allowing its team drivers to exercise flexibility in their SB requirements, the drivers would experience more quality rest. To support its request for the exemption, CRST cited the results of an FMCSA-sponsored study entitled “Investigation of the Effects of Split Sleep Schedules on Commercial Vehicle Driver Safety and Health” by Belenky (2012). The report noted “. . . that when consolidated nighttime sleep is not possible, split sleep is preferable to consolidated daytime sleep.” (http://ntl.bts.gov/lib/51000/51200/51254/12-003-Split-Sleep_Investigation-of-the-Effects-of-Split-Sleep-Schedules-on-Commercial-Vehicle-Driver-Safety-and-Health-508.pdf)

A copy of CRST's application for exemption is available for review in the docket for this notice.

Request for Comments

In accordance with 49 U.S.C. 31136(e) and 31315(b)(4), FMCSA requests public comment on CRST's application for an exemption from certain provisions of the driver's HOS rules in 49 CFR part 395. The Agency will consider all comments received by close of business on September 21, 2015. Comments will be available for examination in the docket at the location listed under the ADDRESSES section of this notice.

Issued on: August 13, 2015.
Larry W. Minor,
Associate Administrator for Policy.

[FR Doc. 2015-20569 Filed 8-19-15; 8:45 am]

BILLING CODE 4910-EX-P